ENVIRONMENTAL PROTECTION AGENCY

[EPA-HQ-RCRA-2008-0912, FRL-8969-3]

Agency Information Collection Activities; Submission to OMB for Review and Approval; Comment Request; Notification of Regulated Waste Activity and 2009 Hazardous Waste Report (Renewal); EPA ICR Number 0976.14; OMB Control Number 2050-0024

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before November 16, 2009.

ADDRESSES: Submit your comments, referencing Docket ID No. EPA-HQ-RCRA-2008-0912, to (1) EPA, either online using http://www.regulations.gov (our preferred method), or by e-mail to rcra-docket@epa.gov, or by mail to: RCRA Docket (28221T), U.S. Environmental Protection Agency, 1200 Pennsylvania Avenue, NW., Washington, DC 20460; and (2) OMB, by mail to: Office of Information and Regulatory Affairs, Office of Management and Budget (OMB), Attention: Desk Officer for EPA, 725 17th Street, NW., Washington, DC 20503.

FOR FURTHER INFORMATION CONTACT: Peggy Vyas, Environmental Protection Agency, 1200 Pennsylvania Ave., NW., Washington, DC 20460; telephone number: 703-308-5477; fax number: 703-308-8433; e-mail address: vyas.peggy@epa.gov.

SUPPLEMENTARY INFORMATION: EPA has submitted the following ICR to OMB for review and approval according to the procedures prescribed in 5 CFR 1320.12. On May 15, 2009 (74 FR 22922), EPA sought comments on this ICR pursuant to 5 CFR 1320.8(d). EPA received no comments. Any additional comments on this ICR should be submitted to EPA and OMB within 30 days of this notice.

EPA has established a public docket for this ICR under Docket ID No. EPA-HQ-RCRA-2008-0912, which is available for online viewing at http://www.regulations.gov, or in person viewing at the Resource Conservation and Recovery Act (RCRA) Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the RCRA Docket is (202) 566-0270.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Notification of Regulated Waste Activity and 2009 Hazardous Waste Report.

ICR Numbers: EPA ICR No. 0976.14, OMB Control No. 2050-0024.

ICR Status: This ICR is scheduled to expire on November 30, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR combines two separate ICRs into one: The biennial “Hazardous Waste Report” ICR and the “Notification of Regulated Waste Activities” ICR.

Both sections 3002 and 3004 of RCRA require EPA to establish standards for recordkeeping and reporting of hazardous waste generation and management. Section 3002 applies to hazardous waste generators, and section 3004 applies to hazardous waste treatment, storage, and disposal facilities. The implementing regulations are found at 40 CFR 262.40(b) and (d); 262.41(a)(1)-(5), (a)(8), and (b); 264.75(a)-(e) and (j); 265.75(a)-(e) and (j); and 270.30(l)(9). This is mandatory reporting by the respondents. This collection is done on a two-year cycle as required by Sections 3002 and 3004 of RCRA. The information is collected via a mechanism known as the Hazardous Waste Report for the required reporting year (EPA Form 8700-13 A/B). This form is also known as the Biennial Report form.

The beginning part of the Hazardous Waste Report form is the RCRA subtitle C Site Identification Form (EPA Form 8700-12). This form is also a stand alone form which is used to comply with section 3010 of RCRA, which requires any person who generates or transports regulated waste or who owns or operates a facility for the treatment, storage, or disposal of regulated waste to notify EPA of their activities, including the location and general description of activities and the regulated wastes handled. This form is also known as the Notification form.

EPA has revised the Hazardous Waste Report form this cycle, particularly the RCRA subtitle C Site Identification portion, because of recent promulgated rules affecting the RCRA universe, as well as ongoing efforts by the Agency and States to improve the forms and their instructions.

Burden Statement: The reporting burden for the 2009 Hazardous Waste Report is estimated to average 16.63 hours per respondent, and includes time for reviewing instructions, gathering data, completing and reviewing the forms, and submitting the report. The recordkeeping requirement is estimated to average 3.97 hours per response and includes the time for filing and storing the 2009 Hazardous Waste Report submission for three years.

The annual public reporting and recordkeeping burden for the Notification of Regulated Waste Activity is estimated to average 2 hours per response for the initial notification, and 1 hour per response for any subsequent notifications.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are businesses or other for-profits as well as State, Local, or Tribal governments.

Estimated Number of Respondents: 56,763.

Frequency of Response: Biennially.

Estimated Total Annual Hour Burden: 422,133 hours.

Estimated Total Annual Cost: $16,510,025, includes $16,309,358 annualized labor costs and $200,667 annualized capital or O&M costs.

Changes in the Estimates: There is a decrease of 263,063 hours in the total estimated burden currently identified in the OMB Inventory of Approved ICR Burdens.

The decrease in respondent burden for Notification of Regulated Waste Activity has occurred for two primary reasons. First, there was a decrease in the estimated total number of notifications under RCRA section 3010; 40 CFR part 273, subpart C; and 40 CFR part 279. Second, the burden associated with the notification activities decreased because of adjustments made to the hourly burden estimates for the Site ID Form. In addition, adjustments were made to the hourly burden estimates for the Site ID Form to take into account the option given to respondents in the Site ID Form's instructions to use their most recently submitted form in making a subsequent notification. These optional procedures relieve them of the need to complete the form in its entirety. These adjustments do not reflect any change in requirements; they represent instead a more accurate representation of the burden that respondents will incur as a result of this information collection.

The decrease in respondent burden and State agency burden estimates for the Hazardous Waste Report occurred because there was a decrease in the projected number of respondents and Hazardous Waste Report forms.

Dated: October 8, 2009.
John Moses,
Director, Collection Strategies Division.

[FR Doc. E9-24814 Filed 10-14-09; 8:45 am]

BILLING CODE 6560-50-P